DEPARTMENT OF ENERGY

Federal Energy Regulatory Commission

Combined Notice of Filings #1

Take notice that the Commission received the following electric corporate filings:

Docket Numbers: EC15-197-000.

Applicants: Joliet Battery Storage LLC, West Chicago Battery Storage LLC.

Description: Joint Application of Joliet Battery Storage LLC and West Chicago Battery Storage LLC for Authorization Under Section 203 of the Federal Power Act and Request for Waivers, Confidential Treatment, Expedited Action and Shortened Comment Period.

Filed Date: 8/28/15.

Accession Number: 20150828-5292.

Comments Due: 5 p.m. ET 9/18/15.

Docket Numbers: EC15-198-000.

Applicants: NRG Chalk Point LLC, NRG Chalk Point CT LLC.

Description: Joint Application of NRG Chalk Point LLC and NRG Chalk Point CT LLC for Approval under Section 203 of the Federal Power Act and Request for Expedited Action.

Filed Date: 8/28/15.

Accession Number: 20150828-5294.

Comments Due: 5 p.m. ET 9/18/15.

Take notice that the Commission received the following electric rate filings:

Docket Numbers: ER15-861-004.

Applicants: California Independent System Operator Corporation.

Description: Compliance filing: 2015-08-28 EIM Readiness Compliance to be effective 3/16/2015.

Filed Date: 8/28/15.

Accession Number: 20150828-5271.

Comments Due: 5 p.m. ET 9/18/15.

Docket Numbers: ER15-2453-000.

Applicants: Passadumkeag Windpark, LLC.

Description: Supplement to August 14, 2015 Passadumkeag Windpark, LLC.

Filed Date: 8/28/15.

Accession Number: 20150828-5233.

Comments Due: 5 p.m. ET 9/18/15.

Docket Numbers: ER15-2564-000.

Applicants: Southern Power Company.

Description: Section 205(d) Rate Filing: Decatur Parkway PPA Filing to be effective 10/12/2015.

Filed Date: 8/28/15.

Accession Number: 20150828-5272.

Comments Due: 5 p.m. ET 9/18/15.

Docket Numbers: ER15-2565-000.

Applicants: California Independent System Operator Corporation.

Description: Section 205(d) Rate Filing: 2015-08-28 EIM Transition Period Amendment to be effective 11/1/2015.

Filed Date: 8/28/15.

Accession Number: 20150828-5291.

Comments Due: 5 p.m. ET 9/18/15.

Docket Numbers: ER15-2566-000.

Applicants: Pacific Gas and Electric Company.

Description: Section 205(d) Rate Filing: 6th Amendment to Extend the PGE-SVP Interconnection Agreement to be effective 10/31/2015.

Filed Date: 8/31/15.

Accession Number: 20150831-5025.

Comments Due: 5 p.m. ET 9/21/15.

Docket Numbers: ER15-2567-000.

Applicants: Duke Energy Progress, LLC, Duke Energy Florida, LLC, Duke Energy Carolinas, LLC.

Description: Section 205(d) Rate Filing: Tariff Name Change Filing to be effective 11/1/2015.

Filed Date: 8/31/15.

Accession Number: 20150831-5170.

Comments Due: 5 p.m. ET 9/21/15.

Docket Numbers: ER15-2568-000.

Applicants: Duke Energy Progress, LLC.

Description: Section 205(d) Rate Filing: Tariff Name Change Filing to be effective 11/1/2015.

Filed Date: 8/31/15.

Accession Number: 20150831-5173.

Comments Due: 5 p.m. ET 9/21/15.

Docket Numbers: ER15-2569-000.

Applicants: Duke Energy Florida, LLC.

Description: Section 205(d) Rate Filing: Tariff Name Change Filing to be effective 11/1/2015.

Filed Date: 8/31/15.

Accession Number: 20150831-5175.

Comments Due: 5 p.m. ET 9/21/15.

Docket Numbers: ER15-2570-000.

Applicants: Potomac Electric Power Company.

Description: Section 205(d) Rate Filing: Construction Agreement Between PEPCO and SMECO to be effective 9/1/2015.

Filed Date: 8/31/15.

Accession Number: 20150831-5200.

Comments Due: 5 p.m. ET 9/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2015.
Nathaniel J. Davis, Sr.,
Deputy Secretary.

[FR Doc. 2015-23529 Filed 9-18-15; 8:45 am]

BILLING CODE 6717-01-P